DEPARTMENT OF HOMELAND SECURITY

[Docket No. DHS-2025-0007]

Notice of Committee Charter Renewal Homeland Security Advisory Council

AGENCY: Office of Partnership and Engagement (OPE), Department of Homeland Security (DHS).

ACTION: Committee management; notice of committee charter renewal with amendments.

SUMMARY: The Secretary of Homeland Security has determined that the renewal of the Homeland Security Advisory Council (HSAC) is necessary and in the public interest. This determination follows consultation with the Committee Management Secretariat, General Services Administration.

DATES: The committee's charter is effective March 5, 2025 and expires March 5, 2027.

FOR FURTHER INFORMATION CONTACT: Alexander Jacobs, Alternate Designated Federal Officer, HSAC at 202-891-2876 or HSAC@hq.dhs.gov.

SUPPLEMENTARY INFORMATION: Under the authority of 6 United States Code (U.S.C.) 451, this charter renewed the HSAC as a discretionary committee, which shall operate in accordance with the provisions of the Federal Advisory Committee Act (FACA), 5 U.S.C. ch. 10. The HSAC was established in 2003, under the authority of title 6 U.S.C. 451, and chartered under the provisions of the FACA, 5 U.S.C. ch. 10. This discretionary committee provides nonpartisan and organizationally independent, strategic advice to the Secretary of Homeland Security on matters related to homeland security. Three amendments were made: (1) Reduces the total membership from 40 to 35. (2) Changes members terms to a three-year appointment, from one to three-year terms. (3) Removes co-chairs to now reflect a Chair and Vice Chair.

Dated: March 6, 2025.
Alexander L. Jacobs,
Alternate Designated Federal Officer, Homeland Security Advisory Council, Department of Homeland Security.

[FR Doc. 2025-03856 Filed 3-10-25; 8:45 am]

BILLING CODE 9112-FN-P